NATIONAL SCIENCE FOUNDATION

Proposal Review Panel for Computing & Communication Foundations; Notice of Meeting

In accordance with the Federal Advisory Committee Act (Pub. L. 92-463, as amended), the National Science Foundation (NSF) announces the following meeting:

Name and Committee Code: Proposal Review Panel for Computing & Communication Foundations (#1192) (Virtual Site Visit).

Date and Time: June 2, 2025; 1 p.m.-2 p.m. (PDT); June 3, 2025; 7 a.m.-3:30 p.m. (PDT); June 4, 2025; 7 a.m.-3:45 p.m. (PDT).

Place: NSF, 2415 Eisenhower Avenue, Alexandria, VA 22314 (Virtual).

Type of Meeting: Part-Open.

Contact Persons: Basu, Sankar, National Science Foundation, 2415 Eisenhower Avenue, Alexandria, VA 22314; Telephone: 703-292-7843.

Purpose of Meeting: NSF virtual site visit to provide advice and recommendations concerning the progress of the TILOS AI Institute and to conduct a renewal review during year 4 of the award period as stipulated in the cooperative agreement.

Agenda: To conduct an in-depth evaluation of performance, to assess progress towards goals, and to provide recommendations.

Day 1: June 2, 2025 (PDT)

1 p.m.-2 p.m. Site Visitor Briefing (Closed)

Day 2: June 3, 2025 (PDT)

7 a.m.-7:15 a.m. Welcome and Introductions

7:15 a.m.-7:30 a.m. Overview of the Institute—TILOS Director Yusu Wang (UCSD)

7:30 a.m.-9 a.m. Research Program Overview—AD Research Arya Mazumdar (UCSD), Foundations and Use Domains team co-leads

9 a.m.-9:30 a.m. Executive Session for NSF Review Team (Closed)

9:30 a.m.-9:45 a.m. Break—15 mins

9:45 a.m.-10:30 a.m. Education and Broad Impacts—AD Education Jodi Reeves (NU), Outreach Director Saura Naderi (UCSD), Miriam Jacobson (UT Austin)

10:30 a.m.-11 a.m. Presenters + NSF team meet with students and postdocs affiliated with the TILOS AI Institute (Closed)

11 a.m.-12 p.m. Break for Lunch

12 p.m.-12:30 p.m. Strategic Impact (multidisciplinary/multi-org. synergies/nexus point)—Yusu Wang (UCSD)

12:30 p.m.-1 p.m. Industry Collaboration and Knowledge Transfer—AD Translation Vijay Kumar (Penn)

1 p.m.-2 p.m. Discussion of TILOS Renewal

2 p.m.-2:15 p.m. Break—15 mins

2:15 p.m.-3:15 p.m. Executive Session for NSF Review Team (Closed)

3:15 p.m.-3:30 p.m. Written Questions/Issues Delivered to TILOS by the Site Visit Team (Closed)

Day 3: June 4, 2025 (PDT)

7 a.m.-8 a.m. TILOS Response to Issues Raised by Site Visit Team (Closed)

8 a.m.-3 p.m. Site Visit Review Team Prepares Site Visit Report (Closed)

3 p.m.-3:30 p.m. Presentation of Site Visit Report (Executive Summary) (Closed)

3:45 p.m. Site Visit Concludes

Reason for Closing: Topics to be discussed and evaluated during the virtual site review will include information of a proprietary or confidential nature, including technical information; and information on personnel. These matters are exempt under 5 U.S.C. 552b(c), (4) and (6) of the Government in the Sunshine Act.

Dated: May 8, 2025.
Crystal Robinson,
Committee Management Officer.

[FR Doc. 2025-08466 Filed 5-13-25; 8:45 am]

BILLING CODE 7555-01-P